DEPARTMENT OF LABOR

Employment and Training Administration

[TA-W-55,691]

Royal Home Fashions Plant No. 6, Henderson, NC; Notice of Revised Determination on Reconsideration

By application of November 22, 2004, a petitioner requested administrative reconsideration of the Department's negative determination regarding eligibility for workers and former workers of the subject firm to apply for Trade Adjustment Assistance (TAA) and Alternative Trade Adjustment Assistance (ATAA). The denial notice was signed on October 25, 2004 and published in the Federal Register on November 12, 2004 (69 FR 65462).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Royal Home Fashions, Plant No. 6, Henderson, North Carolina engaged in production of bedding (sheets, pillow cases, comforters, shams, etc.) was denied because it was determined that the declines in employment at the subject firm were predominantly caused by unrelated to imports circumstances.

The petitioner alleges that the petitioning group of workers was in direct support of the Royal Home Fashions manufacturing facilities known as Plant No. 4 and Plant No. 2 in Henderson, North Carolina. The workers of these facilities were certified eligible for TAA on July 15, 2004 and August 24, 2004 respectively.

A company official was contacted to verify whether workers at the subject facility were performing services for Plant No. 4 and Plant No. 2 during the relevant period. The company official stated that the subject facility serves as a distribution and warehousing facility and is in direct support of production for Plants No. 2 and No. 4 in Henderson, North Carolina.

In accordance with Section 246 the Trade Act of 1974 (26 U.S.C. 2813), as amended, the Department of Labor herein presents the results of its investigation regarding certification of eligibility to apply for alternative trade adjustment assistance (ATAA) for older workers of Royal Home Fashions, Plant No. 6, Henderson, North Carolina.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The Department has determined that criterion 2 has not been met. The investigation revealed that the work performed by the petitioning group are easily transferable to other positions in the commuting area.

Conclusion

After careful review of the facts obtained in the investigation, I determine that increases of imports of articles like or directly competitive with articles produced by Royal Home Fashions, Henderson, North Carolina contributed importantly to the total or partial separation of workers and to the decline in sales or production at that firm or subdivision. In accordance with the provisions of the Act, I make the following certification:

All workers of the Royal Home Fashions, Plant 6, Henderson, North Carolina who became totally or partially separated from employment on or after September 24, 2003 through two years from the date of this certification, are eligible to apply for adjustment assistance under Section 223 of the Trade Act of 1974, and are denied eligibility to apply for alternative trade adjustment assistance under Section 246 of the Trade Act of 1974.

Signed at Washington, DC, this 19th day of January, 2005.
Elliott S. Kushner,
Certifying Officer, Division of Trade Adjustment Assistance.

[FR Doc. E5-461 Filed 2-4-05; 8:45 am]

BILLING CODE 4510-30-P